DEPARTMENT OF HOMELAND SECURITY

Federal Emergency Management Agency

44 CFR Part 67

[Docket No. FEMA-B-7757]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before April 15, 2008.

ADDRESSES: The corresponding preliminary Flood Insurance Rate Map (FIRM) for the proposed BFEs for each community is available for inspection at the community's map repository. The respective addresses are listed in the table below.

You may submit comments, identified by Docket No. FEMA-B-7757, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001, et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001, et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Kenton County, Kentucky, and Incorporated Areas
Banklick Creek | Eaton Drive bridge | +498 | +499 | City of Covington, City of Erlanger, City of Fort Wright, City of Independence, Unincorporated Areas of Kenton County.
| 3,500 feet upstream of Webster Lane bridge | +649 | +648
Bullock Pen Creek (Banklick Creek backwater) | 140′ upstream of CSX railroad crossing of Bullock Pen Creek | None | +517 | City of Edgewood.
| City of Edgewood and City of Erlanger corporate limits | None | +517
DeCoursey Creek (Licking River backwater) | City of Fairview and Kenton County Unincorporated corporate limits | None | +504 | City of Fairview.
| 4,670 feet upstream of City of Fairview and Kenton County Unincorporated corporate limits | None | +504
Fowler Creek | Mouth at Banklick Creek | +554 | +562 | City of Independence, Unincorporated Areas of Kenton County.
| Pelly Road bridge | +710 | +713
Unnamed Tributary (Backwater from Licking River) | 870 feet downstream of CSX Railroad Bridge | None | +518 | Unincorporated Areas of Kenton County.
| 1,010 feet upstream of CSX Railroad | None | +518
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Covington
Maps are available for inspection at 638 Madison Avenue, Covington, KY 41011.
City of Edgewood
Maps are available for inspection at 385 Dudley Road, Edgewood, KY 41017.
City of Erlanger
Maps are available for inspection at 505 Commonwealth Avenue, Erlanger, KY 41018.
City of Fairview
Maps are available for inspection at 303 Court Street, Covington, KY 41011.
City of Fort Wright
Maps are available for inspection at 409 Kyles Lane, Fort Wright, KY 41011.
City of Independence
Maps are available for inspection at 5292 Madison Pike, Independence, KY 41051.
Unincorporated Areas of Kenton County
Maps are available for inspection at 303 Court Street, Covington, KY 41011.
Harrison County, Mississippi, and Incorporated Areas
Back Bay of Biloxi/Big Lake | Near the intersection of Popps Ferry Road and Causeway Drive | +11 | +15 | City of D'Iberville, City of Biloxi, Unincorporated Areas of Harrison County.
| Near the intersection of Interstate 110 and Bay Shore Drive | +13 | +21
Bay of Biloxi | Near the intersection of D'Iberville Boulevard and Lamey Bridge Road | +11 | +16 | City of Biloxi, City of D'Iberville, Unincorporated Areas of Harrison County.
| At Harrison/Jackson county boundary near U.S. Highway 90 | +16 | +23
Bernard Bayou | Approximately 350 feet upstream of Interstate 10 | +11 | +15 | Unincorporated Areas of Harrison County, City of Gulfport.
| Approximately 3,000 feet upstream of Mennonite Road | None | +87
Tributary 3 | At the confluence with Bernard Bayou | None | +23 | Unincorporated Areas of Harrison County.
| Approximately 5,808 feet upstream of Orange Grove Road | None | +44
Tributary 4 | At the confluence with Bernard Bayou Tributary 3 | None | +24 | Unincorporated Areas of Harrison County, City of Gulfport.
| Approximately 1,900 feet upstream of Lambrecht Road | None | +64
Tributary 5 | At the confluence with Bernard Bayou Tributary 4 | None | +40 | Unincorporated Areas of Harrison County, City of Gulfport.
| Approximately 850 feet upstream of Pheasant Drive | None | +65
Tributary 6 | At the confluence with Bernard Bayou | None | +28 | Unincorporated Areas of Harrison County.
| Approximately 300 feet upstream of Orange Grove Road | None | +52
Big Creek | Approximately 29,040 feet upstream of the confluence with Wolf River | None | +55 | Unincorporated Areas of Harrison County.
| Approximately 32,208 feet upstream of the confluence with Wolf River | None | +58
Biloxi River | Approximately 100 feet upstream of Lorraine Rd | +11 | +15 | City of Biloxi, City of Gulfport, Unincorporated Areas of Harrison County.
| At Harrison/Stone county boundary | None | +104
Brickyard Bayou | Approximately 200 feet upstream of 8th Avenue | +10 | +13 | City of Gulfport.
| Approximately 250 feet upstream of Stewart Avenue | None | +30
Brickyard Bayou/Bernard Bayou/Turkey Creek | Near intersection of 8th Avenue and Pass Road | +10 | +12 | City of Gulfport.
| Near the intersection of Ridge Road and Taylor Road | +11 | +18
Canal No. 1 | Approximately 2,100 feet upstream of Epsy Avenue | +16 | +18 | City of Pass Christian, Unincorporated Areas of Harrison County.
| Approximately 2,900 feet upstream of Epsy Ave | +17 | +18
Canal No. 3 | Approximately 1,000 feet downstream of Epsy Avenue | +14 | +17 | Unincorporated Areas of Harrison County, City of Long Beach.
| Approximately 1,000 feet downstream of Beatline Road | +18 | +19
Crow Creek | Approximately 19,008 feet upstream of the confluence with Biloxi River | None | +95 | Unincorporated Areas of Harrison County.
| Approximately 24,816 feet upstream of the confluence with Biloxi River | None | +101
Flat Branch | At the confluence with Bernard Bayou | +11 | +15 | Unincorporated Areas of Harrison County, City of Gulfport.
| Approximately 8,976 upstream of the confluence with Flat Branch Tributary 2 | None | +66
Tributary 1 | Approximately 1,450 feet downstream of Hamilton Street | None | +22 | City of Gulfport.
| Approximately 3,900 feet upstream of Robinson Road | None | +58
Tributary 2 | At the confluence with Flat Branch | None | +53 | City of Gulfport.
| Approximately 2,450 feet upstream of the confluence with Flat Branch | None | +56
Fritz Creek | Approximately 3,400 feet upstream of Lorraine Road | +11 | +15 | City of Gulfport.
| Approximately 850 feet upstream of Three Rivers Road | None | +56
Tributary 1 | Shallow flooding area bound by O'Neal Road to the North, Mays Road to the South, Crystal Weel Court to the West, and Three Rivers Road to the East | None | #2 | City of Gulfport.
| Approximately 100 feet upstream of Three Rivers Road | None | +52
| Approximately 1,050 feet upstream of O'Neal Road | None | +60
Tributary 2 | At the confluence with Fritz Creek | None | +39 | City of Gulfport, Unincorporated Areas of Harrison County.
| Approximately 1,650 feet upstream of Three Rivers Road | None | +58
Gulf of Mexico/Mississippi Sound | Near the intersection of Main Street and Water Street | +12 | +17 | City of Biloxi, City of Gulfport, City of Long Beach, City of Pass Christian, Unincorporated Areas of Harrison County.
| Near the intersection of Espy Avenue and U.S. Highway 90 | +18 | +26
Hickory Creek | Approximately 3,850 feet upstream of McHenry Road | None | +121 | Unincorporated Areas of Harrison County.
| Approximately 7,920 feet upstream of McHenry Road | None | +128
Hog Branch | Approximately 1,800 feet upstream of the confluence with Tuxachanie Creek | +35 | +36 | Unincorporated Areas of Harrison County.
| Approximately 10,032 feet upstream of South Carr Bridge Road | None | +98
Howard Creek | Approximately 2,700 feet upstream of Old Highway 67 | +13 | +15 | City of Biloxi.
| Approximately 3,300 feet upstream of Old Highway 67 | +15 | +16
Little Biloxi River | Approximately 150 feet downstream of McHenry Road | None | +120 | Unincorporated Areas of Harrison County.
| Approximately 6,700 feet upstream of McHenry Road | None | +129
Mill Creek | Approximately 4,900 feet upstream of State Highway 53 | None | +104 | Unincorporated Areas of Harrison County.
| Approximately 8,976 feet upstream of State Highway 53 | None | +114
Palmer Creek | Approximately 3,800 feet upstream of Wortham Road | None | +76 | Unincorporated Areas of Harrison County.
| Approximately 9,200 feet upstream of Wortham Road | None | +87
Parker Creek | Approximately 430 feet upstream of Woolmarket Road | +13 | +15 | City of Biloxi, Unincorporated Areas of Harrison County.
| Approximately 9,504 feet upstream of State Highway 67 | None | +75
Pole Branch | Approximately 270 feet downstream of Cable Bridge Road | None | +61 | Unincorporated Areas of Harrison County.
| Approximately 3,200 feet upstream of Cable Bridge Road | None | +68
Ponding Area | Ponding area bound by Irish Hill Drive to the North, West Howard Avenue to the South, Porter Avenue to the West, and Iroquois Street to the East | None | +21 | City of Biloxi.
Ponding Areas | Near intersection of Big Lake Road and Lejuene Drive | None | +25 | City of Biloxi.
| Near intersection of Irish Hill Drive and Brister Place | None | +29
Sandy Creek | Approximately 1,200 feet downstream of Steel Bridge Road | None | +72 | Unincorporated Areas of Harrison County.
| Approximately 2,500 feet upstream of Steel Bridge Road | None | +75
Saucier Creek | Approximately 1,200 feet upstream of State Highway 67 | None | +92 | Unincorporated Areas of Harrison County.
| Just downstream of Martha Redmond Road | None | +111
Shallow Flooding | Shallow flooding bounded by West 2nd Street to the North, Scenic Drive to the South, Leovy Avenue to the West, and Paul Dunbar Avenue to the East | None | #1 | City of Pass Christian.
St. Louis Bay/Wolf River/Canal No. 1/Canal No. 3 | Near the intersection of Red Creek Road and Menge Avenue | +12 | +17 | Unincorporated Areas of Harrison County, City of Pass Christian.
| At Harrison/Hancock county boundary south of Interstate 10 | +16 | +26
Tchoutacabouffa River | Approximately 5,400 feet upstream of State Highway 15 | +11 | +14 | City of Biloxi, Unincorporated Areas of Harrison County.
| Approximately 5,000 feet upstream of the confluence with Railroad Creek | None | +75
Tchoutacabouffa River/Biloxi River | Near intersection of Old Highway 67 and Woolmarket Road | +11 | +13 | City of Gulfport, City of Biloxi, City of D'Iberville, Unincorporated Areas of Harrison County.
| Near the intersection of Pin Oak Drive and Oaklawn Road | +14 | +19
Turkey Creek | Approximately 2,250 feet downstream of Airport Road | +11 | +14 | City of Gulfport, Unincorporated Areas of Harrison County.
| Approximately 3,350 feet upstream of Ohio Avenue | +15 | +16
Tuxachanie Creek | Approximately 1,050 feet downstream of Whit Plains Road | +33 | +34 | Unincorporated Areas of Harrison County.
| Approximately 21,120 feet upstream of Bethel Road | None | +95
West Creek | Approximately 2,000 feet downstream of State Highway 67 | None | +85 | Unincorporated Areas of Harrison County.
| Approximately 10,032 feet upstream of State Highway 67 | None | +95
Wolf River | Approximately 9,700 feet upstream of Bells Ferry Road | +17 | +19 | Unincorporated Areas of Harrison County.
| Approximately 1,000 feet downstream of I-10 | +20 | +21
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Biloxi
Maps are available for inspection at Floodplain Management, 676 Dr. Martin Luther King Boulevard, Biloxi, MS 39533.
City of D'Iberville
Maps are available for inspection at 10383 Automall Parkway, D'Iberville, MS 39540.
City of Gulfport
Maps are available for inspection at Department of Urban Development-Building Codes Services, 2200 15th Street, Trailer B-5, Gulfport, MS 39501.
City of Long Beach
Maps are available for inspection at Building Code Office, 645 Klondike Road, Long Beach, MS 39560.
City of Pass Christian
Maps are available for inspection at Building Code Office, 203 Fleitas Avenue, Pass Christian, MS 39571.
Unincorporated Areas of Harrison County
Maps are available for inspection at County Code Office, 15309 Community Road, Gulfport, MS 39503.

(Catalog of Federal Domestic Assistance No. 97.022, “Flood Insurance.”)
Dated: January 3, 2008.
David I. Maurstad,
Federal Insurance Administrator of the National Flood Insurance Program, Department of Homeland Security, Federal Emergency Management Agency.

[FR Doc. E8-724 Filed 1-15-08; 8:45 am]

BILLING CODE 9110-12-P